DEPARTMENT OF DEFENSE

Office of the Secretary

[Docket ID DOD-2010-OS-0024]

Privacy Act of 1974; Systems of Records

AGENCY: Defense Logistics Agency, DoD.

ACTION: Notice to amend a system of records.

SUMMARY: The Defense Logistics Agency proposes to amend a system of records notice in its existing inventory of records systems subject to the Privacy Act of 1974, (5 U.S.C. 552a), as amended.

DATES: This proposed action will be effective without further notice on April 7, 2010 unless comments are received which result in a contrary determination.

ADDRESSES: You may submit comments, identified by docket number and title, by any of the following methods:

* Federal Rulemaking Portal: http://www.regulations.gov. Follow the instructions for submitting comments.

* Mail: Federal Docket Management System Office, 1160 Defense Pentagon, Washington, DC 20301-1160.

Instructions: All submissions received must include the agency name and docket number for this Federal Register document. The general policy for comments and other submissions from members of the public is of make these submissions available for public viewing on the Internet at http://www.regulations.gov as they are received without change, including any personal identifiers or contact information.

FOR FURTHER INFORMATION CONTACT: Ms. Jody Sinkler at (703) 767-5045.

SUPPLEMENTARY INFORMATION: The Defense Logistics Agency systems of records notices subject to the Privacy Act of 1974, (5 U.S.C. 552a), as amended, have been published in the Federal Register and are available from the point of contact under FOR FURTHER INFORMATION CONTACT.

The specific changes to the record system being amended are set forth below followed by the notice, as amended, published in its entirety. The proposed amendment is not within the purview of subsection (r) of the Privacy Act of 1974 (5 U.S.C. 552a), as amended, which requires the submission of new or altered systems reports.

Dated: March 2, 2010.
Mitchell S. Bryman,
Alternate OSD Federal Register Liaison Officer, Department of Defense.

S352.10

System name:

Suggestion Files (March 28, 2007; 72 FR 14528).

Changes:

* * * * *

System location:

Delete entry and replace with “Headquarters, Defense Logistics Agency, Attn: DHRC-P, 8725 John J. Kingman Road, Fort Belvoir, VA 22060-6221 and the Primary Level Field Activities. Official mailing addresses are published as an appendix to DLA's compilation of records systems notices.”

* * * * *

Routine uses of records maintained in the system, including categories of users and the purposes of such uses:

Delete entry and replace with “In addition to those disclosures generally permitted under 5 U.S.C. 552a(b) of the Privacy Act of 1974, these records may specifically be disclosed outside the DOD for evaluation of a suggestion.

To Federal, State, and local agencies and private organizations to research and evaluate suggestions or to process award or recognition documents.

The DoD “Blanket Routine Uses” also apply to this system of records.”

* * * * *

System manager(s) and address:

Delete entry and replace with “Defense Logistics Agency Suggestion Policy Office, Human Resources Program Implementation, Attn: DHRC-P, 8725 John J. Kingman Road, Fort Belvoir, VA 22060-6221.”

Notification procedure:

Add as second paragraph “Inquiry should contain the individual's full name, address, type of award, suggestion description, and activity at which nomination or suggestion was submitted.”

* * * * *

Contesting record procedures:

Delete entry and replace with “The DLA rules for accessing records, for contesting contents, and appealing initial agency determinations are contained in 32 CFR part 323, or may be obtained from the Privacy Act Office, Headquarters, Defense Logistics Agency, ATTN: DGA 8725 John J. Kingman Road, Suite 1644, Fort Belvoir, VA 22060-6221.”

* * * * *

S352.10

System name:

Suggestion Files

System location:

Headquarters, Defense Logistics Agency, ATTN: DHRC-P, 8725 John J. Kingman Road, Fort Belvoir, VA 22060-6221 and the Primary Level Field Activities. Official mailing addresses are published as an appendix to DLA's compilation of records systems notices.

Categories of individuals covered by the system:

Individuals who have submitted suggestions to improve the economy, efficiency, or operation of the Defense Logistics Agency and the Federal government.

Categories of records in the system:

File contains individual's name, home address and telephone numbers, organization, background material and evaluations submitted in support of suggestion program, and award or recognition documents authorized for a suggestion.

Authority for maintenance of the system:

5 U.S.C. 301, Departmental Regulations; 10 U.S.C. 1124, Cash awards for disclosures, suggestions, inventions, and scientific achievements; and DoD Manual 1400.25-M, DoD Civilian Personnel Manual, subchapter 451, Awards.

Purpose(s):

Information is maintained to evaluate suggestions, to process award or recognition documents, and to prepare reports.

Routine uses of records maintained in the system, including categories of users and the purposes of such uses:

In addition to those disclosures generally permitted under 5 U.S.C. 552a(b) of the Privacy Act of 1974, these records may specifically be disclosed outside the DOD for evaluation of a suggestion.

To Federal, State, and local agencies and private organizations to research and evaluate suggestions or to process award or recognition documents.

The DoD “Blanket Routine Uses” also apply to this system of records.

Policies and practices for storing, retrieving, accessing, retaining, and disposing of records in the system:

Storage:

Records may be maintained on paper and electronic storage media.

Retrievability:

Records are retrieved by individual's name, and/or suggestion number.

Safeguards:

Access is limited to those individuals who require access to the records to perform official, assigned duties. Physical access is limited through the use of locks, guards, card swipe, and other administrative procedures. The electronic records deployed on accredited systems with access restricted by the use of login, password, and/or card swipe protocols. Employees are warned through screen log-on, protocols and period briefings of the consequences of improper access or use of the data. In addition, users are required to shutdown their workstations when leaving the work area. The Web-based files are encrypted in accordance with approved information assurance protocols. During non-duty hours, records are secured in access-controlled buildings, offices, cabinets or computer systems. Individuals granted access to the system of records receives Information Assurance and Privacy training.

Retention and disposal:

Records are destroyed 3 years after disapproval, completion of testing, or permanent implementation, as applicable.

System manager(s) and address:

Defense Logistics Agency Suggestion Policy Office, Human Resources Program Implementation, Attn: DHRC-P, 8725 John J. Kingman Road, Fort Belvoir, VA 22060-6221.

Notification procedure:

Individuals seeking to determine whether this system of records contains information about themselves should address written inquiries to the Privacy Act Office, Headquarters, Defense Logistics Agency, Attn: DGA, 8725 John J. Kingman Road, Suite 1644, Fort Belvoir, VA 22060-6221.

Inquiry should contain the individual's full name, address, type of award, suggestion description, and activity at which nomination or suggestion was submitted.

Record access procedures:

Individuals seeking access to information about themselves contained in this system should address written inquiries to the Privacy Act Office Defense Logistics Agency, Attn: DGA, 8725 John J. Kingman Road, Suite 1644, Fort Belvoir, VA 22060-6221.

Inquiry should contain the individual's full name, address, type of award, suggestion description, and activity at which nomination or suggestion was submitted.

Contesting record procedures:

The DLA rules for accessing records, for contesting contents, and appealing initial agency determinations are contained in 32 CFR part 323, or may be obtained from the Privacy Act Office, Headquarters, Defense Logistics Agency, Attn: DGA, 8725 John J. Kingman Road, Suite 1644, Fort Belvoir, VA 22060-6221.

Record source categories:

Record subject, DLA supervisors, and individuals who evaluate the suggestions.

Exemptions claimed for the system:

None.

[FR Doc. 2010-4821 Filed 3-5-10; 8:45 am]

BILLING CODE 5001-06-P